POSTAL SERVICE

International Product Change—Priority Mail Express International (PMEI), Priority Mail International (PMI) & First-Class Package International Service Agreements; PMEI, PMI & Commercial ePacket Agreement

AGENCY: Postal Service.

ACTION: Notice.

SUMMARY: The Postal Service gives notice of filing requests with the Postal Regulatory Commission to add certain Priority Mail Express International, Priority Mail International & First-Class Package International Service contracts, as well as a Priority Mail Express International, Priority Mail International & Commercial ePacket contract to the list of Negotiated Service Agreements in the Competitive Product List in the Mail Classification Schedule.

DATES: Date of notice: October 22, 2025.

FOR FURTHER INFORMATION CONTACT: Christopher C. Meyerson, (202) 268-7820.

SUPPLEMENTARY INFORMATION: The United States Postal Service hereby gives notice that, pursuant to 39 U.S.C. 3642 and 3632(b)(3), it filed with the Postal Regulatory Commission the following requests:

Date filed with Postal Regulatory Commission | Negotiated service agreement product category and No. | MC docket No. | K docket No.
10/14/2025 | PMEI, PMI & FCPIS 94 | MC2026-20 | K2026-21
10/16/2025 | PMEI, PMI & FCPIS 95 | MC2026-28 | K2026-28
10/15/2025 | PMEI, PMI & FCPIS 96 | MC2026-24 | K2026-25
10/16/2025 | PMEI, PMI & FCPIS 97 | MC2026-31 | K2026-31
10/15/2025 | PMEI, PMI & CeP 7 | MC2026-26 | K2026-26

Documents are available at www.prc.gov.

Kevin Rayburn,
Attorney, Ethics and Legal Compliance.

[FR Doc. 2025-19628 Filed 10-21-25; 8:45 am]

BILLING CODE 7710-12-P